DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed extension of a currently approved information collection. In accordance with the Paperwork Reduction Act of 1995, this notice seeks comments concerning reimbursement of claims submitted for fighting fires on Federal property.

SUPPLEMENTARY INFORMATION: The collection of information is necessary in order to reimburse fire services for claims submitted for fighting fires on property that is under jurisdiction of the United States. Section II of the Federal Fire Prevention and Control Act of 1974, implemented under 44 CFR part 151, provides that each fire service that engages in the fighting of a fire on property which is under the jurisdiction of the United States and who has a mutual aid agreement in effect between claimant and the ¹ Federal Emergency Management Agency (FEMA) for the property upon which the fire occurred, may file a claim with FEMA for the amount of direct expense and direct losses incurred by such fire services as a result of fighting fires.

¹ The Reimbursement for Cost of Fighting Fire on Federal Property program is currently being transferred to the newly created Preparedness Directorate of the Department of Homeland Security. During this transition FEMA, also part of the Department of Homeland Security, will continue to support this program as the new Directorate stands up. Ultimately this data collection will be transferred to the Preparedness Directorate.

Collection of Information

Title: Reimbursement for Cost of Fighting Fire on Federal Property.

Type of Information Collection: Extension of a currently approved collection.

OMB Number: 1660-0014.

Abstract: The Federal Emergency Management Agency (FEMA) Director; the Administrator of the United States Fire Administration (USFA); and the United States Treasury will use the information to ensure proper expenditure of Federal funds. Once a claim is received, a copy of FEMA determination and the claim is forwarded to the Treasury Department. The Treasury Department will pay for fire services or its parent jurisdiction for any moneys in the treasury subject to reimbursement, to the Federal department or agency under whose jurisdiction the fire occurred.

Affected Public: Business or Other For-Profit, Not For-Profit Institutions, and State, Local or Tribal Government.

Estimated Total Annual Burden Hours:

Annual Burden Hours
Information collection activities | Number of respondents (A) | Frequency of responses (B) | Burden hours per respondent (C) | Annual responses (AxB) | Total annual burden hours (AxBxC)
Claims Information | 4 | On Occasion | 1.5 | 16 | 24
Total | 4 |  | 1.5 | 16 | 24

Estimated Cost: The annualized cost burden for Fire Chiefs to complete and process a claim is estimated to be $15,288 annually.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before February 13, 2006.

ADDRESSES: Interested persons should submit written comments to Chief, Records Management Section, Information Resources Management Branch, Information Technology Services Division, Federal Emergency Management Agency, 500 C Street, SW., Room 316, Washington, DC 20472.

FOR FURTHER INFORMATION CONTACT: Contact Tim Ganley, Fire Program Specialist, U.S. Fire Administration, (301) 447-1358 for additional information. You may contact the Records Management Branch for copies of the proposed collection of information at facsimile number (202) 646-3347 or e-mail address: FEMA-Information-Collections@dhs.gov.

Dated: January 4, 2006.
Darcy Bingham,
Branch Chief, Information Resources Management Branch, Information Technology Services Division.

[FR Doc. E6-212 Filed 1-11-06; 8:45 am]

BILLING CODE 9110-17-P